ENVIRONMENTAL PROTECTION AGENCY

[ER-FRL-6695-5]

Environmental Impact Statements; Notice of Availability

Responsible Agency: Office of Federal Activities, General Information (202) 564-7167 or http://www.epa.gov/compliance/nepa/.

Weekly receipt of Environmental Impact Statements

Filed 01/21/2008 through 01/25/2008

Pursuant to 40 CFR 1506.9

EIS No. 20080028, Draft EIS, BLM, UT, West Tavaputs Plateau Natural Gas Full Field Development Plan, Develop the Natural Gas Resource on Leased and Unleased Lands, Carbon County, UT, Comment Period Ends: 05/01/2008, Contact: Brad Higdon 435-636-3613.

EIS No. 20080029, Final EIS, IBR, CA, Truckee River Operating Agreement (TROA) Modify Operations of Five Federal Two Non-Federal Reservoirs to Facilitate Distribution of Water, Truckee River Basin, Alpine, El Dorado, Nevada, Placer, Sierra Counties, CA and Carson City, Churchill Douglas, Lyon, Pershing, Storey, and Washoe Counties, NV, Wait Period Ends: 03/04/2008, Contact: Kenneth Parr 775-882-3436.

EIS No. 20080030, Final EIS, BLM, MT, Upper Missouri River Breaks National Monument Resource Management Plan, Implementation, Blaine, Chouteau, Fergus and Phillips Counties, MT, Wait Period Ends: 03/04/2008, Contact: Jerry Majerus 202-452-5112.

EIS No. 20080031, Draft EIS, AFS, MN, Glacier Project, To Maintain and Promote Native Vegetation, Communities that are Diverse, Productive, Healthy, Implementation, Superior National Forest, Kawishiwi Ranger District, St. Louis and Lake Counties, MN, Comment Period Ends: 03/17/2008, Contact: Susan Duffy 218-365-2097.

EIS No. 20080032, Draft EIS, AFS, CO, Durango Mountain Resort Improvement Plan, Special-Use-Permits, Implementation, San Juan National Forest, La Plata and San Juan Counties, CO, Comment Period Ends: 03/17/2008, Contact: Richard Speegle 970-375-3310.

EIS No. 20080033, Final EIS, BLM, CA, Truckhaven Geothermal Leasing Area, Addresses Leasing of Geothermal Resources, El Centro Field Office, Imperial County, CA, Wait Period Ends: 03/04/2008, Contact: Sandra McGinnis 916-985-4474.

EIS No. 20080034, Final EIS, FHW, NH, Spaulding Turnpike Improvements Project, Reconstruction and Widening of a 3.5-mile Section from U.S. Route 4 and NH Route 16, U.S. Coast Guard Bridge Permit, NPDES Permit and U.S. Army COE Section 404 Permit, Town of Newington, City of Dover, Strafford and Rockingham Counties, NH, Wait Period Ends: 03/04/2008, Contact: William F. O'Donnell, P.E. 603-228-3057 Ext. 101.

Amended Notices

EIS No. 20070453, Draft EIS, BLM, UT, Monticello Field Office Resource Management Plan, To Guide the Management of Public Land, Southern two-thirds of San Juan County and small portion on the Northern boundary within Grand County, UT, Comment Period Ends: 02/08/2008, Contact: Gary Torres 435-587-1524.

Revision to FR Notice Published 11/02/2007: Extending Comment Period from 01/30/2008 to 02/08/2008.

Dated: January 29, 2008.
Ken Mittelholtz,
Environmental Protection Specialist, Office of Federal Activities.

[FR Doc. E8-1854 Filed 1-31-08; 8:45 am]

BILLING CODE 6560-50-P